DEPARTMENT OF TRANSPORTATION

Federal Aviation Administration

Approval of Noise Compatibility Program for Dillingham Airfield, Mokuleia, Hawaii

AGENCY: Federal Aviation Administration, DOT.

ACTION: Notice.

SUMMARY: The Federal Aviation Administration (FAA) announces its findings on the Noise Compatibility Program submitted by the State of Hawaii, Department of Transportation under the provisions of Title I of the Aviation Safety and Noise Abatement Act of 1979 (Public Law 96-193) and Title 14, Code of Federal Regulations Part 150 (Part 150). These findings are made in recognition of the description of Federal and nonfederal responsibilities in Senate Report No. 96-52 (1980). On September 14, 2000, the FAA determined that the noise exposure maps submitted by the State of Hawaii, Department of Transportation under Part 150 were in compliance with applicable requirements. On March 13, 2001, the Acting Associate Administrator for Airports approved the Dillingham Airfield Noise Compatibility Program. Seven of the eight recommendations of the program were approved. One measure was approved as a voluntary measure, six measures were approved outright, and one measure was disapproved pending the submission of additional information.

EFFECTIVE DATES: The effective date of the FAA's approval of the Dillingham Airfield Noise Compatibility Program is March 13, 2001.

FOR FURTHER INFORMATION CONTACT: David J. Welhouse, Airport Planner Honolulu Airports District Office, Federal Aviation Administration, Box 50244, Honolulu, Hawaii 96850-0001, Telephone: (808) 541-1243; street address: 300 Ala Moana Blvd., Room 7-128. Documents reflecting this FAA action may be reviewed at this location.

SUPPLEMENTARY INFORMATION: This notice announces that the FAA has given its overall approval to the Noise Compatibility Program for the Dillingham Airfield, effective March 13, 2001.

Under section 104(a) of the Aviation Safety and Noise Abatement Act of 1979 (hereinafter referred to as “the Act”), an airport operator who has previously submitted a Noise Exposure Map may submit to the FAA a Noise Compatibility Program which sets forth the measures taken or proposed by the airport operator for the reduction of existing noncompatible land uses and prevention of additional noncompatible land uses within the area covered by the Noise Exposure Maps. The Act requires such programs to be developed in consultation with interested and affected parties including local communities, government agencies, airport users, and FAA personnel.

Each airport Noise Compatibility Program developed in accordance with Part 150 is a local program, not a federal program. The FAA does not substitute its judgment for that of the airport proprietor with respect to which measures should be recommended for action. The FAA's approval or disapproval of Part 150 program recommendations is measured according to the standards expressed in Part 150 and is limited to the following determinations:

a. The Noise Compatibility Program was developed in accordance with the provisions and procedures of FAR Part 150;

b. Program measures are reasonably consistent with achieving the goals of reducing existing noncompatible land uses around the airport and preventing the introduction of additional noncompatible land uses;

c. Programs measures would not create an undue burden on interstate or foreign commerce, unjustly discriminate against types or classes of aeronautical uses, violate the terms of airport grant agreements, or intrude into areas preempted by the Federal Government; and

d. Program measures relating to the use of flight procedures can be implemented within the period covered by the program without derogating safety, adversely affecting the efficient use and management of the navigable airspace and air traffic control systems, or adversely affecting other powers and responsibilities of the Administrator prescribed by law.

Specific limitations with respect to FAA's approval of an airport Noise Compatibility Program are delineated in FAR Part 150, Section 150.5. Approval is not a determination concerning the acceptability of land uses under federal, state, or local law. Approval does not by itself constitute an FAA implementing action. A request for Federal action or approval to implement specific noise compatibility measures may be required, and an FAA decision on the request may require an environmental assessment of the proposed action. Approval does not constitute a commitment by the FAA to financially assist in the implementation of the program nor a determination that all measures covered by the program are eligible for grant-in-aid funding from the FAA. Where federal funding is sought, requests for project grants must be submitted to the FAA Airports District Office in Honolulu, Hawaii.

The State of Hawaii, Department of Transportation submitted to the FAA on December 3, 1998 (original submittal) and April 12, 2000 (revised pages), the noise exposure maps, descriptions, and other documentation produced during the noise compatibility planning study conducted from May 1997 through November 1998. The Dillingham Airfield noise exposure maps were determined by FAA to be in compliance with applicable requirements on September 14, 2000. Notice of this determination was published in the Federal Register on September 27, 2000.

The Dillingham Airfield study contains a proposed Noise Compatibility Program comprised of actions designed for implementation by airport management and adjacent jurisdictions. It was requested that the FAA evaluate and approve this material as a Noise Compatibility Program as described in section 104(b) of the Act. The FAA began its review of the program on September 14, 2000 and was required by a provision of the Act to approve or disapprove the program within 180 days (other than the use of new flight procedures for noise control). Failure to approve or disapprove such program within the 180-day period shall be deemed to be an approval of such program.

The submitted program contained eight proposed actions for noise mitigation on and off the airport. The FAA completed its review and determined that the procedural and substantive requirements of the Act and Part 150 have been satisfied. The Acting Associate Administrator for Airports approved the overall program effective March 13, 2001.

Seven of the eight program measures have been approved. The following measure was approved as a voluntary measure: Seek voluntary cooperation to fly over open spaces and the ocean. The following measures were approved outright: Sound attention of impacted residence; Use comprehensive planning and zoning; acquire avigation easements; acquire development rights; review and modify subdivision regulations; and, use of tax incentives. The following measure was disapproved pending submission of additional information: Land banking.

These determinations are set forth in detail in a Record of Approval endorsed by the Acting Associate Administrator for Airports on March 13, 2001. The Record of Approval, as well as other evaluation materials and the documents comprising the submittal, are available for review at the FAA office listed above and at the administrative offices of the State of Hawaii.

Issued in Hawthorne, California on March 22, 2001.
Herman C. Bliss,
Manager, Airports Division.

[FR Doc. 01-7951 Filed 3-30-01; 8:45 am]

BILLING CODE 4910-13-M